DEPARTMENT OF LABOR

Employment and Training Administration

[TA-W-65,861]

Wesley Hall Furniture, Inc., Hickory, NC; Notice of Termination of Investigation

Pursuant to Section 221 of the Trade Act of 1974, as amended, an investigation was initiated on April 28, 2009, in response to a worker petition filed on behalf of workers of Wesley Hall Furniture, Inc., Hickory, North Carolina.

The petitioners have requested that the petition be withdrawn. Consequently, the investigation has been terminated.

Signed at Washington, DC, this 6th day of May 2009.
Richard Church,
Certifying Officer, Division of Trade Adjustment Assistance.

[FR Doc. E9-13468 Filed 6-8-09; 8:45 am]

BILLING CODE 4510-FN-P